NUCLEAR REGULATORY COMMISSION

[NRC-2015-0001]

Sunshine Act Meeting Notice

DATE: August 17, 24, 31, September 7, 14, 21, 2015.

PLACE: Commissioners' Conference Room, 11555 Rockville Pike, Rockville, Maryland.

STATUS: Public and Closed.

Week of August 17, 2015

There are no meetings scheduled for the week of August 17, 2015.

Week of August 24, 2015—Tentative

There are no meetings scheduled for the week of August 24, 2015.

Week of August 31, 2015—Tentative

There are no meetings scheduled for the week of August 31, 2015.

Week of September 7, 2015—Tentative

Tuesday, September 8, 2015

9:30 a.m. Briefing on Project AIM 2020 (Public Meeting) (Contact: Karen Fitch: 301-415-7358)

This meeting will be webcast live at the Web address— http://www.nrc.gov/.

Thursday, September 10, 2015

9:30 a.m. Briefing on NRC International Activities (Closed—Ex. 1 & 9)

Week of September 14, 2015—Tentative

There are no meetings scheduled for the week of September 14, 2015.

Week of September 21, 2015

Thursday, September 24, 2015

9:30 a.m. Strategic Programmatic Overview of the New Reactors Business Line (Public Meeting) (Contact: Donna Williams: 301-415-1322)

* * * * *

The schedule for Commission meetings is subject to change on short notice. For more information or to verify the status of meetings, contact Glenn Ellmers at 301-415-0442 or via email at Glenn.Ellmers@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: August 13, 2015.
Glenn Ellmers,
Policy Coordinator, Office of the Secretary.

[FR Doc. 2015-20361 Filed 8-13-15; 4:15 pm]

BILLING CODE 7590-01-P